DEPARTMENT OF THE INTERIOR

Bureau of Indian Affairs

Office of the Special Trustee for American Indians

Working Group on Land Consolidation Program: Call for Nominations

AGENCIES: Bureau of Indian Affairs, Interior, Office of the Special Trustee for American Indians, Interior.

ACTION: Notice.

SUMMARY: The Bureau of Indian Affairs (BIA) and the Office of the Special Trustee for American Indians (OST) in the Department of the Interior intend to assemble a working group to address the rapidly increasing fractionation of ownership of Indian land. This fractionation is due to the system of allotments established by the General Allotment Act of 1887. The President's fiscal year (FY) 2004 Budget, which is now before Congress, incorporates a request for a significant increase for the Indian Land Consolidation program aimed at reducing the number of individual owners in parcels of Indian lands allotted to individuals. This notice serves as a call for nominations of Tribal officials to participate in a working group to discuss the issue of fractionation, problems caused by fractionation, and the universe of possible solutions.

DATES: All nominations must be postmarked within 30 days of the date of publication in the Federal Register. Final selections will be made by and served at the discretion of the Deputy Commissioner for Indian Affairs and the Special Trustee for American Indians.

FOR FURTHER INFORMATION CONTACT: You can obtain information and a copy of the Call for Nominations at the following offices: ATTN: Terry Virden, Deputy Commissioner for Indian Affairs, Bureau of Indian Affairs, Room 4160, 1849 C Street, NW., Washington, DC 20240, or ATTN: Donna Erwin, Acting Special Trustee, Office of the Special Trustee for American Indians, Room 5140, 1849 C Street, NW., Washington, DC 20240.

SUPPLEMENTARY INFORMATION: The allotment of Indian lands—dividing tribal lands into small parcels and allocating those parcels to individual Indians—became Federal policy in 1887 with the enactment of the General Allotment Act. By the 1930s, however, it was widely accepted that the policy was a failure and, in 1934, it was ended with passage of the first Indian Reorganization Act. Interests in these allotted lands started to “fractionate” as interests divided among the heirs of the original allottees, expanding rapidly with every generation.

Today, there are approximately four million owner interests in the 10 million acres of individually-owned trust lands, and these four million interests could expand to 11 million interests by 2030. Moreover, there are an estimated 1.4 million fractional interests of 2 percent or less involving 58,000 tracks of individually-owned trust and restricted lands. There are now single pieces of property with ownership interests that are less than 0.000002 percent of the whole interest.

Addressing this issue is critical to improving the management of trust assets. The Department of the Interior, the Department in which the BIA and OST are located, is bound by its trust obligations to manage each owner's interest, regardless of size. Reduction of fractional interests will increase the likelihood of more productive economic use of the land, reduce record keeping and large numbers of small dollar financial transactions, and decrease the number of interests subject to probate.

Starting in 2004, the BIA will oversee the National Indian Land Consolidation Program. The BIA and OST are now establishing a working group that will consist of Tribal leaders and Departmental personnel to discuss fractionation, the problems associated with fractionation, and possible solutions to problems. The BIA and OST are interested in receiving nominations of Tribal officials from Tribes with highly fractionated lands or other Tribal officials having a strong interest in resolving the problem of fractionation who would participate in this working group. Participants should be prepared to engage in serious dialog on all matters relating to the problem of fractionation of Indian lands. Nominees should be committed to spending a significant amount of time reviewing existing statutes and programs, discussing the issues within a diverse working group, and exploring creative solutions to the problems discussed. Participation should plan to meet approximately once per month from June through August 2003. Travel and per diem expenses will be provided.

Tribal officials who have been nominated to serve as a member of this working group must complete and submit the following information to the BIA or OST at the address listed above in the section titled ADDRESSES AND FOR FURTHER INFORMATION CONTACT within 30 days of publication of this Notice in the Federal Register:

A. Nominee's Full Name:

B. Business Address:

C. Business Phone:

D. Home Address:

E. Home Phone:

F. Title/Position in Tribe:

G. Qualifications (e.g., education, experience, or whether you are a Tribal official owning lands with fractionated interests):

H. Nominated by: Include Nominator's Name, Address and Telephone Number(s).

I. Date of Nomination.

J. A minimum of Two Letters of Reference.

K. A brief Summary or Explanation of Specific Methods, Conceptions, or Proposals That You Will be Prepared to Discuss With the Working Group Regarding Potential Solutions to Fractionation and Problems Associated with Fractionation. Groups may nominate more than one person. If nominating more than one person, please indicate your preferred order of appointment selection.

Dated: April 11, 2003.
Richard V. Fitzgerald,
Trust Policy Manager.
Dated: April 15, 2003.
Aurene M. Martin,
Acting Assistant Secretary—Indian Affairs.

[FR Doc. 03-9840 Filed 4-21-03; 8:45 am]

BILLING CODE 4310-02-M